FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011117-044.

Title: United States/Australasia Discussion Agreement.

Parties: A.P. Moller-Maersk A/S; ANL Singapore PTE LTD.; CMA-CGM, S.A.; Compagnie Maritime Marfret S.A.; Hamburg-Süd; Hapag-Lloyd AG; U.S. Lines Limited; and Wallenius Wilhelmsen Logistics AS.

Filing Party: Wayne R. Rohde, Esq.; Sher & Blackwell LLP; 1850 M Street, NW; Suite 900; Washington, DC 20036.

Synopsis: The amendment deletes Safmarine Container Lines NV as a party, removes reference to Hamburg-Süd's former trade name, and clarifies the application of the agreement's authority.

Agreement No.: 011275-024.

Title: Australia and New Zealand/United States Discussion Agreement.

Parties: A.P. Moller-Maersk A/S; ANL Singapore PTE LTD.; Hamburg-Süd; and Hapag-Lloyd AG.

Filing Party: Wayne R. Rohde, Esq.; Sher & Blackwell LLP; 1850 M Street, NW.; Suite 900; Washington, DC 20036.

Synopsis: The amendment deletes Safmarine Container Lines NV as a party to the agreement.

By order of the Federal Maritime Commission.
Dated: January 4, 2008.
Karen V. Gregory,
Assistant Secretary.

[FR Doc. E8-198 Filed 1-8-08; 8:45 am]

BILLING CODE 6730-01-P